PRESIDENT'S COUNCIL ON INTEGRITY AND EFFICIENCY

Senior Executive Service Performance Review Board Membership

AGENCY: Office of Inspector General for the Department of the Interior.

ACTION: Notice.

SUMMARY: This notice sets forth the names and titles of the current membership of the President's Council on Integrity and Efficiency (PCIE) Performance Review Board as of October 2, 2006.

DATES: Effective Date: December 5, 2006.

FOR FURTHER INFORMATION CONTACT: Individual Offices of Inspectors General at the telephone numbers listed below.

SUPPLEMENTARY INFORMATION:

I. Background

The Inspector General's Act of 1978, as amended, created the Offices of Inspectors General as independent and objective units to conduct and supervise audits and investigations relating to Federal programs and operations. Executive Order 12301 (March 26, 1981) established the President's Council on Integrity and Efficiency (PCIE) to coordinate and enhance governmental efforts to promote integrity and efficiency and to detect and prevent fraud, waste, and abuse in Federal programs. The PCIE is an interagency committee chaired by the Office of Management and Budget's Deputy Director for Management, and is comprised principally of the 29 Presidential appointed Inspectors General (IGs).

II. PCIE Performance Review Board

Under 5 U.S.C. 4314(c)(1)-(5), and in accordance with regulations prescribed by the Office of Personnel Management, each agency is required to establish one or more Senior Executive Service (SES) performance review boards. The purpose of these boards is to review and evaluate the initial appraisal of a senior executive's performance by the supervisor, along with any recommendations to the appointing authority relative to the performance of the senior executive. The current members of the President's Council on Integrity and Efficiency Performance Review Board, as of October 2, 2006, are as follows:

Agency for International Development
Phone Number: (202) 712-1170
PCIE/ECIE Liaison—Dona Dinkler (202) 712-1653
Michael G. Carroll | Deputy Inspector General.
Adrienne Rish | Assistant Inspector General for Investigations.
Walter M. Kindred, Jr. (SFS) | Deputy Assistant Inspector General for Investigations.
Joe Farinella (SFS) | Assistant Inspection General for Audit.
Bruce Boyer (SFS) | Deputy Assistant Inspector General for Audit.
Paula Hayes | Assistant Inspector General for Management.
Department of Agriculture
Phone Number: (202) 720-8001
PCIE/ECIE Liaison—Cheryl Viani (202) 720-8001
Kathleen S. Tighe | Deputy Inspector General.
David R. Gray | Counsel to the Inspector General.
Robert W. Young, Jr. | Assistant Inspector General for Audit.
Marlane T. Evans | Deputy Assistant Inspector General for Audit.
Tracy A. LaPoint | Deputy Assistant Inspector General for Audit.
Mark R. Woods | Assistant Inspector General for Investigations.
Karen L. Ellis | Deputy Assistant Inspector General for Investigations.
Suzanne M. Murrin | Assistant Inspector General for Management.
Department of Commerce
Phone Number: (202) 482-4661
PCIE/ECIE Liaison—Susan Carnohan (202) 482-2187
Edward L. Blansitt | Deputy Inspector General.
Elizabeth T. Barlow | Assistant Inspector General for Investigation.
Allison C. Lerner | Counsel to the Inspector General.
Judith J. Gordon | Assistant Inspector General for Systems Evaluation.
John M. Seeba | Assistant Inspector General for Auditing.
Jill A. Gross | Assistant Inspector General for Inspections and Program Evaluation.
Jessica Rickenbach | Assistant Inspector General for Compliance and Administration.
Department of Defense
Phone Number: (703) 604-8324
PCIE/ECIE Liaison—John R. Crane (703) 604-8324
Charles W. Beardall | Acting Deputy Inspector General for Investigations.
Patricia Brannin | Assistant Inspector General for Audit Policy and Oversight, Office of the Deputy Inspector General for Policy and Oversight.
John R. Crane | Assistant Inspector General for Communications and Congressional Liaison.
Ric Fiore | General Counsel and Assistant Inspector General for the Office of Legal Counsel.
Jerry Hansen | Deputy Inspector General for Policy and Oversight.
James Pavlik | Assistant Inspector General for Investigative Policy and Oversight.
Daniel F. Willkens | Acting Director, Defense Criminal Investigative Service, Office of the Deputy Inspector General for Investigations.
Department of Education
Phone Number: (202) 245-6900
PCIE/ECIE Liaison—Tara Porter (202) 245-6588
Cathy Lewis | Assistant Inspector General for Evaluations, Inspections and Management Services.
Helen Lew | Assistant Inspector General for Audit Services.
George Rippey | Deputy Assistant Inspector General for Audit Services.
Thomas Sipes | Assistant Inspector General for Investigative Services.
Charles Coe | Assistant Inspector General for Information Technology and Computer Crimes Investigation.
Mary Mitchelson | Counsel to the Inspector General.
Department of Energy
Phone Number: (202) 586-4393
PCIE/ECIE Liaison—Marilyn Richardson (202) 586-4624
John Hartman | Assistant Inspector General for Investigations.
Chris Sharpley | Deputy Inspector General for Investigations and Inspections.
Rickey Hass | Assistant Inspector General for Financial Audits.
Linda Snider | Assistant Inspector General for Audit Planning and Administration.
Sanford Parnes | Counsel to the Inspector General.
Department of Health and Human Services
Phone Number: (202) 619-3148
PCIE/ECIE Liaison—Sheri Denkensohn (202) 619-3148
Lewis Morris | Chief Counsel to the Inspector General.
Sam Shellenberger | Deputy Inspector General for the Office of Management and Policy.
Joe Green | Assistant Inspector General for Audit Management, Policy and Information Technology Audits.
Department of Homeland Security
Phone Number: (202) 254-4100
PCIE/ECIE Liaison—Denise S. Johnson (202) 254-4100
James L. Taylor | Deputy Inspector General.
Richard N. Reback | Counsel to the Inspector General.
David M. Zavada | Assistant Inspector General for Audits.
Edward F. Cincinnati | Assistant Inspector General for Administration.
Elizabeth M. Redman | Assistant Inspector General for Investigations.
Frank Deffer | Assistant Inspector General for Information Technology.
Matt Jadacki | Special Inspector General for Gulf Coast Hurricane Recovery.
Joseph Sullivan | Deputy Assistant Inspector General for Investigations.
Edward M. Stulginsky | Deputy Assistant Inspector General for Audits.
Belinda J. Finn | Deputy Assistant Inspector General for Audits.
Department of Housing and Urban Development
Phone Number: (202) 708-0430
PCIE/ECIE Liaison—Helen Albert (202) 708-0614, Ext. 8187
Michael P. Stephens | Deputy Inspector General.
James A. Heist | Assistant Inspector General for Audit.
Bryan P. Saddler | Counsel to the Inspector General.
John McCarty | Deputy Assistant Inspector General for Inspections and Evaluations.
Lester Davis | Deputy Assistant Inspector General for Investigations.
Robert Gwin | Deputy Assistant Inspector General for Audit.
Department of the Interior
Phone Number: (202) 208-5745
PCIE/ECIE Liaison—Renee Pettis (202) 219-0637
Mary Kendall | Deputy Inspector General.
Michael Wood | Chief of Staff.
Anne Richards | Assistant Inspector General for Audits.
Kimberly Elmore | Principal Deputy Assistant Inspector General for Audits.
Steve Hardgrove | Assistant Inspector General for Investigations.
John Dupuy | Principal Deputy Assistant Inspector General for Investigations.
Renee Pettis | Assistant Inspector General for Management.
Thomas Moyle | Deputy Assistant Inspector General for Management.
Department of Justice
Phone Number: (202) 514-3435
PCIE/ECIE Liaison—Linda N. Ruder (202) 616-4550
Carol F. Ochoa | Assistant Inspector General for Oversight and Review.
Gregory T. Peters | Assistant Inspector General for Management and Planning.
Paul A. Price | Assistant Inspector General for Evaluation and Inspections.
Department of Labor
Phone Number: (202) 693-5100
PCIE/ECIE Liaison—Steve Anthony (202) 693-5130
Nancy F. Ruiz de Gamboa | Assistant Inspector General for Management and Policy/Chief of Staff.
Thomas F. Farrell | Assistant Inspector General for Labor Racketeering and Fraud Investigations.
Elliot P. Lewis | Assistant Inspector General for Audit.
Robert W. Curtis | Deputy Assistant Inspector General for Audit.
Howard L. Shapiro | Counsel for the Inspector General.
Richard Clark | Deputy Assistant Inspector General for Labor Racketeering and Fraud Investigations.
Department of State and the Broadcasting Board of Governors
Phone Number: (202) 663-0340
PCIE/ECIE Liaison—Michael Wolfson (703) 284-2710
William E. Todd | Deputy Inspector General for Audits, Investigations, and Management, Policy, and Planning.
Robert B. Peterson | Assistant Inspector General for Inspections.
Mark Duda | Assistant Inspector General for Audits.
John Dedona | Assistant Inspector General for Investigations.
Department of Transportation
Phone Number: (202) 366-1959
PCIE/ECIE Liaison—Brian J. Dettelbach (202) 366-8751
Todd J. Zinser | Acting Inspector General.
Theodore P. Alves | Principal Assistant Inspector General for Auditing and Evaluation.
David A. Dobbs | Assistant Inspector General for Aviation & Special Program Audits.
Robin K. Hunt | Deputy Assistant Inspector General for Aviation & Special Program Audits.
Rebecca C. Leng | Assistant Inspector General for Financial and Information Technology Audits.
Kurt W. Hyde | Assistant Inspector General for Surface and Maritime Programs.
Rebecca A. Batts | Deputy Assistant Inspector General for Surface and Maritime Programs.
David E. Tornquist | Assistant Inspector General for Competition and Economic Analysis.
Charles H. Lee, Jr. | Assistant Inspector General for Investigations.
Richard C. Beitel, Jr. | Deputy Assistant Inspector General for Investigations.
Brian J. Dettelbach | Assistant Inspector General for Legal, Legislative, and External Affairs.
Department of the Treasury
Phone Number: (202) 622-1090
PCIE/ECIE Liaison—Adam D. Silverman (202) 927-5835
Dennis S. Schindel | Deputy Inspector General.
Adam D. Silverman | Assistant Inspector General for Management.
Marla A. Freedman | Assistant Inspector General for Audit.
Nick D. Swanstrom | Assistant Inspector General for Investigations.
Robert A. Taylor | Deputy Assistant Inspector General for Program Audit.
Richard K. Delmar | Counsel to the Inspector General.
Treasury Inspector General for Tax Administration/Department of the Treasury
Phone Number: (202) 622-6500
PCIE/ECIE Liaison—Bonnie Heald (202) 927-7037
Michael Phillips | Deputy Inspector General for Audit.
Margaret Begg | Assistant Inspector General for Audit.
Daniel Devlin | Assistant Inspector General for Audit.
Michael McKenney | Assistant Inspector General for Audit.
Steven Jones | Deputy Inspector General for Investigations.
Timothy Camus | Assistant Inspector General for Investigations.
Gregory Holley | Deputy Assistant Inspector General for Investigations.
Michael Delgado | Assistant Inspector General for Investigations.
Mary Anne Curtin | Counsel to the Inspector General.
Joseph Hungate | Assistant Inspector General for Information Technology.
Department of Veterans Affairs
Phone Number: (202) 565-8620
PCIE/ECIE Liaison—Catherine Gromek (202) 565-8620
Daniel Petrole | Assistant Inspector General for Investigations.
James O'Neill | Deputy Assistant Inspector General for Investigations.
Michael Staley | Assistant Inspector General for Audit.
Richard Ehrlichman | Assistant Inspector General for Management and Administration.
Joseph Vallowe | Deputy Assistant Inspector General for Management and Administration.
John Daigh | Assistant Inspector General for Healthcare Inspections.
Dana L. Moore | Deputy Assistant Inspector General for Healthcare Inspections.
Maureen Regan | Counselor to the Inspector General.
Environmental Protection Agency
Phone Number: (202) 566-0847
PCIE/ECIE Liaison—Eileen McMahon (202) 566-2546
Mark Bialek | Counsel to the Inspector General.
Eileen McMahon | Assistant Inspector General for Congressional and Public Liaison.
Melissa Heist | Assistant Inspector General for Audit.
Rick Linthurst (Acting) | Assistant Inspector General for Program Evaluation.
Stephen Nesbitt | Assistant Inspector General for Investigations.
Howard Cantor | Assistant Inspector General for Planning, Analysis and Results.
Equal Employment Opportunity Commission
Phone Number: (202) 663-4379
PCIE/ECIE Liaison—Larkin Jennings (202) 663-4391
Aletha L. Brown | Inspector General.
Federal Trade Commission
Phone Number: (202) 326-2800
PCIE/ECIE Liaison—(202) 326-2800
Howard Sribnick | Inspector General.
General Services Administration
Phone Number: (202) 501-0450
PCIE/ECIE Liaison—Jack C. Lebo (202) 501-2319
Eugene L. Waszily (Acting) | Deputy Inspector General.
Kevin A. Buford | Counsel to the Inspector General.
Eugene L. Waszily | Assistant Inspector General for Auditing.
Andrew Patchan, Jr. | Deputy Assistant Inspector General for Auditing.
Charles J. Augone (Acting) | Assistant Inspector General for Investigations.
National Aeronautics and Space Administration
Phone Number: (202) 358-1220
PCIE/ECIE Liaison—Madeline Chulumovich (202) 358-0615
Thomas Howard | Deputy Inspector General.
Frank LaRocca | Counsel to the Inspector General.
Kevin Winters | Assistant Inspector General for Investigations.
Evelyn Klemstine | Assistant Inspector General for Audits.
Alan Lamoreaux | Assistant Inspector General for Management and Policy.
National Science Foundation
Phone Number: (703) 292-7100
PCIE/ECIE Liaison—Maury Pully (703) 292-5059
Thomas (Tim) Cross | Deputy Inspector General.
Peggy Fischer | Assistant Inspector General for Investigations.
Peace Corps
Phone Number: (202) 692-2900
H. David Kotz | Inspector General (Foreign Service)
Nuclear Regulatory Commission
Phone Number: (301) 415-5930
PCIE/ECIE Liaison—Marie Lopez/Nagle (301) 415-5898
David C. Lee | Deputy Inspector General.
Stephen D. Dingbaum | Assistant Inspector General for Audits.
Office of Personnel Management
Phone Number: (202) 606-1200
PCIE/ECIE Liaison—Gary R. Acker (202) 606-2444
Norbert E. Vint | Deputy Inspector General.
Daniel K. Marella | Assistant Inspector General for Policy, Resources Management, and Oversight.
Michael R. Esser | Assistant Inspector General for Audits.
Jeffery E. Cole | Deputy Assistant Inspector General for Audits.
Railroad Retirement Board
Phone Number: (312) 751-4690
PCIE/ECIE Liaison—Linda Wimbourne (312) 751-4993
William Tebbe | Assistant Inspector General for Investigations.
Henrietta B. Shaw | Assistant Inspector General for Audit.
Small Business Administration
Phone Number: (202) 205-6586
PCIE/ECIE Liaison—Robert F. Fisher (202) 205-6583
Peter L. McClintock | Deputy Inspector General.
Glenn P. Harris | Counsel to the Inspector General.
Debra S. Ritt | Assistant Inspector General for Auditing.
Daniel J. O'Rourke | Assistant Inspector General for Investigations.
Robert F. Fisher | Assistant Inspector General for Management and Policy.
Social Security Administration
Phone Number: (410) 966-8385
PCIE/ECIE Liaison—H. Douglas Cunningham (202) 358-6319
Steven L. Schaeffer | Assistant Inspector General for Audit.
Richard A. Rohde | Acting Assistant Inspector General for Investigations.
Kathy Buller | Chief Counsel to the Inspector General.
United States Postal Service
Phone Number: (703) 248-2300
PCIE/ECIE Liaison—Agapi Doulaveris (703) 248-2286
Scott Wilson | Deputy Inspector General.
Elizabeth Martin | Assistant Inspector General, General Counsel.
Gladis Griffith | Deputy Assistant Inspector General, General Counsel.
Ron Stith | Assistant Inspector General, Mission Support.
David Sidransky | Chief Information Officer.
Sam Guttman | Assistant Inspector General for Investigations.
Randy Stone | Deputy Assistant Inspector General for Investigations—West.
Lance Carrington | Deputy Assistant Inspector General for Investigations—South.
LaVan Griffith | Deputy Assistant Inspector General for Headquarters.
Timothy Barry | Deputy Assistant Inspector General for Investigations—East (Acting).
Gordon Milbourn | Assistant Inspector General for Audits.
Colleen McAntee | Deputy Assistant Inspector General for Audits—Core Operations.
Mary Demory | Deputy Assistant Inspector General for Audits—Headquarters Operations.
John Cihota | Deputy Assistant Inspector General for Audits—Financial Operations.

Dated: November 8, 2006.
Earl E. Devaney,
Inspector General, Department of the Interior and Chair, Human Resources Committee, PCIE.

[FR Doc. E6-20548 Filed 12-4-06; 8:45 am]

BILLING CODE 3110-01-P